NUCLEAR REGULATORY COMMISSION

[Docket No. 50-73]

General Electric Company, Nuclear Test Reactor; Environmental Assessment and Finding of No Significant Impact

The U.S. Nuclear Regulatory Commission (NRC) is considering issuance of an amendment to Facility Operating License No. R-33, issued to the General Electric Company (the licensee or GE) for operation of the General Electric Nuclear Test Reactor (NTR or the facility) located in Sunol, California.

Environmental Assessment

Identification of the Proposed Action

The proposed action would renew the license for the NTR for 20 years from the date of issuance of the license amendment. The proposed action is in accordance with the licensee's application for amendment dated September 30, 1997, as supplemented on June 18, 1999, August 23, 1999, June 1, 2000, and October 5, 2000. The licensee submitted an Environmental Report for license renewal.

Need for the Proposed Action

The proposed action is needed to allow continued operation of the NTR beyond the current term of the license in order to continue research and development using neutrons for experimental purposes.

Environmental Impact of the Proposed Action

The NTR is in Building 105 within the approximately 1600 acre (6.4 square kilometers) Vallecitos Nuclear Center (VNC) near Pleasanton, California. GE owns the VNC site for nuclear research and development. GE normally leases about 1500 acres (6.1 km²) of the site for grazing and for cattle feed crops. The land surrounding the site is primarily used for agriculture and cattle raising. Building 105 has laboratories, offices and workshops and is surrounded by similar facilities in the immediate area.

On October 24, 1957, the U.S. Atomic Energy Commission (AEC) issued Construction Permit No. CPRR-19, to GE. This permit authorized GE to construct the NTR at its VNC site in Southern Alameda County, California. On October 31, 1957, the AEC issued Facility Operating License No. R-33, authorizing GE to operate the reactor at steady-state power levels up to 30 kW(t). The reactor first reached criticality on November 15, 1957. On July 22, 1969, the license was amended authorizing GE to operate the reactor at steady-state power levels not in excess of 100 kW(t), and renewing the license. The facility license was renewed again on December 28, 1984, with an expiration date of October 31, 1997. The licensee applied for renewal on September 30, 1997, and, in accordance with 10 CFR 2.109, the license remains in effect. At each renewal, the facility description, organization and safety evaluation were updated. The reactor has operated about 139 megawatt-days for the first 39 years since initial licensing (Safety Analysis Report (SAR) section 4.4.1). Facility modifications have been minor. The licensee has not indicated any plans to change the design or usage significantly. The radioactive releases from the NTR have been well within regulatory limits of 10 CFR Part 20. The facility typically has 1 liter per year of radioactive liquid waste (SAR section 11.1.1.2) that is due to sampling. This liquid waste is transferred to monitored tanks. Solid radioactive releases are estimated to be less than 3 cubic feet or 0.085 cubic meters per year (SAR section 11.1.1.3). The radioactive content of this waste is measured in the millicurie or 10⁸ becquerels range. Solid waste is transferred to separate State and NRC licenses held by the GE. Liquid and solid radioactive material has been transferred and disposed of in accordance with the requirements of the licensee's byproduct license. Any necessary releases will be similarly treated. Currently, the licensee has no plans to change any operating or radioactive release practices or characteristics of the reactor during the license renewal period.

The NRC concludes that conditions are not expected to change and that the radiological effects of the continued operation will continue to be minimal. The radiological exposures for facility operations have been and are expected to remain within regulatory limits.

The proposed action will not significantly increase the probability or consequences of accidents, no changes are being made in the types of any effluents that may be released off site, and there is no significant increase to occupational or public radiation exposure. Therefore, there are no significant radiological environmental impacts associated with the proposed action.

With regard to potential non radiological impacts, the proposed action does not involve any historic sites. It does not affect non radiological facility effluents and has no other environmental impact. Therefore, there are no significant non radiological environmental impacts associated with the proposed action.

In addition, the environmental impact associated with operation of research reactors has been generically evaluated by the staff and is discussed in the attached generic evaluation. This evaluation concludes that no significant environmental impact is associated with the operation of research reactors licensed to operate at power levels up to and including 2 megawatts thermal. The NRC staff has determined that this generic evaluation is applicable to operation of the NTR and that there are no special or unique features that would preclude reliance on the generic evaluation.

Accordingly, the NRC concludes that there are no significant environmental impacts associated with the proposed action.

Alternatives to the Proposed Action

As an alternative to the proposed action, the staff considered denial of the proposed action (i.e., the “no-action” alternative). If the NRC denied license renewal, NTR operations would stop and decommissioning would be required with no significant benefit to the environment. The environmental impacts of the proposed action and alternative are similar.

Alternative Use of Resources

This action does not involve the use of any resources not previously considered in the safety analysis and evaluation for operating license renewal in 1984 and the “Environmental Assessment for the General Electric Company—Nuclear Test Reactor License No. R-33, Docket No. 50-73,” dated November 9, 1984.

Agencies and Persons Contacted

On October 24 and 27, 2000, the staff consulted with the California Department of Health Official, Steve Hsu, regarding the environmental impact of the proposed action. The State official had no comment.

Finding of No Significant Impact

On the basis of the environmental assessment, the NRC concludes that the proposed action will not have a significant effect on the quality of the human environment. Accordingly, the NRC has determined not to prepare an environmental impact statement for the proposed action.

For further details with respect to the proposed action, see the licensee's letter dated September 30, 1997, as supplemented on June 18, 1999, August 23, 1999, June 1, 2000, and October 5, 2000. Documents may be examined, and/or copied for a fee, at the NRC's Public Document Room, located at One White Flint North, 11555 Rockville Pike (first floor), Rockville, Maryland. Publicly available records will also be accessible electronically from the ADAMS Public Library component on the NRC Web site, http://www.nrc.gov (the Electronic Reading Room).

Dated at Rockville, Maryland, this 13th day of April, 2001.
For the Nuclear Regulatory Commission.
Ledyard B. Marsh,
Chief, Events Assessment, Generic Communications, and Non-Power Reactors Branch, Division of Regulatory Improvement Programs, Office of Nuclear Reactor Regulation.

Environmental Considerations Regarding the Licensing of Research Reactors and Critical Facilities

Introduction

This discussion deals with research reactors and critical facilities which are designed to operate at low power levels, 2 MWt and lower, and are used primarily for basic research in neutron physics, neutron radiography, isotope production, experiments associated with nuclear engineering, training and as a part of a nuclear physics curriculum. Operation of such facilities will generally not exceed a 5-day week, 8-hour day, or about 2000 hours per year. Such reactors are located adjacent to technical service support facilities with convenient access for students and faculty.

Sited most frequently on the campuses of large universities, the reactors are usually housed in already existing structures, appropriately modified, or placed in new buildings that are designed and constructed to blend in with existing facilities. However, the environmental considerations discussed herein are not limited to those which are part of universities.

Facility

There are no exterior conduits, pipelines, electrical or mechanical structures or transmission lines attached to or adjacent to the facility other than for utility services, which are similar to those required in other similar facilities, specifically laboratories. Heat dissipation is generally accomplished by use of a cooling tower located on the roof of the building. These cooling towers typically are on the order of 10′ × 10′ × 10′ and are comparable to cooling towers associated with the air-conditioning systems of large office buildings.

Make-up for the cooling system is readily available and usually obtained from the local water supply. Radioactive gaseous effluents are limited to Ar-41 and the release of radioactive liquid effluents can be carefully monitored and controlled. Liquid wastes are collected in storage tanks to allow for decay and monitoring prior to dilution and release to the sanitary sewer system. Solid radioactive wastes are packaged and shipped offsite for storage at NRC-approved sites. The transportation of such waste is done in accordance with existing NRC-DOT regulations in approved shipping containers.

Chemical and sanitary waste systems are similar to those existing at other similar laboratories and buildings.

Environmental Effects of Site Preparation and Facility Construction

Construction of such facilities invariably occurs in areas that have already been disturbed by other building construction and, in some cases, solely within an already existing building. Therefore, construction would not be expected to have any significant effect on the terrain, vegetation, wildlife or nearby waters or aquatic life. The societal, economic and aesthetic impacts of construction would be no greater than those associated with the construction of a large office building or similar research facility.

Environmental Effects of Facility Operation

Release of thermal effluents from a reactor of less than 2 MWt will not have a significant effect on the environment. This small amount of waste heat is generally rejected to the atmosphere by means of small cooling towers. Extensive drift and/or fog will not occur at this low power level.

Release of routine gaseous effluents can be limited to Ar-41, which is generated by neutron activation of air. Even this will be kept as low as practicable by using gases other than air for supporting experiments. Yearly doses to unrestricted areas will be at or below established guidelines in 10 CFR Part 20 limits. Routine releases of radioactive liquid effluents can be carefully monitored and controlled in a manner that will ensure compliance with current standards. Solid radioactive wastes will be shipped to an authorized disposal site in approved containers. These wastes should not require more than a few shipping containers a year.

Based on experience with other research reactors, specifically TRIGA reactors operating in the 1 to 2 MWt range, the annual release of gaseous and liquid effluents to unrestricted areas should be less than 30 curies and 0.01 curies, respectively.

No release of potentially harmful chemical substances will occur during normal operation. Small amounts of chemicals and/or high-solid content water may be released from the facility through the sanitary sewer during periodic blowdown of the cooling tower or from laboratory experiments.

Other potential effects of the facility, such as aesthetics, noise, societal or impact on local flora and fauna are expected to be too small to measure.

Environmental Effects of Accidents

Accidents ranging from the failure of experiments up to the largest core damage and fission product release considered possible result in doses that are less than 10 CFR Part 20 guidelines and are considered negligible with respect to the environment.

Unavoidable Effects of Facility Construction and Operation

The unavoidable effects of construction and operation involve the materials used in construction that cannot be recovered and the fissionable material used in the reactor. No adverse impact on the environment is expected from either of these unavoidable effects.

Alternatives to Construction and Operation of the Facility

To accomplish the objectives associated with research reactors, there are no suitable alternatives. Some of these objectives are training of students in the operation of reactors, production of radioisotopes, and use of neutron and gamma ray beams to conduct experiments.

Long-Term Effects of Facility Construction and Operation

The long-term effects of research facilities are considered to be beneficial as a result of the contribution to scientific knowledge and training. Because of the relatively small amount of capital resources involved and the small impact on the environment, very little irreversible and irretrievable commitment is associated with such facilities.

Costs and Benefits of Facility Alternatives

The costs are on the order of several millions of dollars with very little environmental impact. The benefits include, but are not limited to, some combination of the following: conduct of activation analyses, conduct of neutron radiography, training of operating personnel, and education of students. Some of these activities could be conducted using particle accelerators or radioactive sources which would be more costly and less efficient. There is no reasonable alternative to a nuclear research reactor for conducting this spectrum of activities.

Conclusion

The staff concludes that there will be no significant environmental impact associated with the licensing of research reactors or critical facilities designed to operate at power levels of 2 MWt or lower and that no environmental impact statements are required to be written for the issuance of construction permits or operating licenses for such facilities.

[FR Doc. 01-9825 Filed 4-19-01; 8:45 am]

BILLING CODE 7590-01-P